DEPARTMENT OF HEALTH AND HUMAN SERVICES

National Institutes of Health

Center for Scientific Review; Amended Notice of Meeting

Notice is hereby given of a change in the meeting of the Chronic Dysfunction and Integrative Neurodegeneration Study Section, February 15, 2023, 08 a.m. to February 16, 2023, 07 p.m., Embassy Suites at the Chevy Chase Pavilion, 4300 Military Road NW, Washington, DC 20015 which was published in the Federal Register on January 24, 2023, 88 FR 4193, Doc 2023-01308.

This meeting is being amended to change the location from Embassy Suites at the Chevy Chase Pavilion, 4300 Military Road NW, Washington, DC 20015 to Canopy by Hilton, 940 Rose Avenue, North Bethesda, MD 20852. The meeting is closed to the public.

Dated: February 7, 2023.
David W. Freeman,
Program Analyst, Office of Federal Advisory Committee Policy.

[FR Doc. 2023-02982 Filed 2-10-23; 8:45 am]

BILLING CODE 4140-01-P